DEPARTMENT OF HEALTH AND HUMAN SERVICES

Centers for Disease Control and Prevention

Implementation of the National Violent Death Reporting System

Announcement Type: New.

Funding Opportunity Number: 04061.

Catalog of Federal Domestic Assistance Number: 93.136.

Key Dates:

Application Deadline: April 22, 2004.

I. Funding Opportunity Description

Authority: This program is authorized under section 301(a) (42 U.S.C. 241(a)) of the Public Health Service Act and section 391(a) (42 U.S.C. 280b(a)) of the Public Service Health Act, as amended.

Purpose: The purpose of the program is to expand the implementation of the National Violent Death Reporting System (NVDRS) as mandated in FY 2004 Senate appropriations language. NVDRS will assist state governments to assess the extent of the violence related deaths in their states, identify risk factors and develop and evaluate violence prevention program efforts. This program addresses the “Healthy People 2010” focus area of Injury and Violence Prevention.

Measurable outcomes of the program will be in alignment with the following performance goal for the National Center for Injury Prevention and Control (NCIPC): Develop new or improved approaches for preventing and controlling death and disability due to injuries.

For this cooperative agreement, the case definition of violent deaths include deaths coded on the death certificate as a suicide (ICD10 X60-X84, Y87.0), a homicide (ICD10 X85-Y09, Y87.1), a death of undetermined intent (ICD10 Y10-Y34, Y87.2), a death from legal intervention (ICD10 Y35.0-Y35.4, Y35.6-Y35.7, Y89.0), a death related to terrorism (ICD10 U01-U03), an “accidental” death from a firearm (ICD10 W32-W34, and those cases coded to Y86 where a firearm is the source of injury) and those cases coded to Y89.9 where the death is later determined to be due to violence or unintentional firearm injury. Note that the defining code ranges explicitly include the sequelae or “late effects” of violent injuries.

Activities

Awardee activities for this program are as follows:

a. Establish or maintain an advisory committee that will help in the development of the state violent death reporting system. Membership should include representatives from agencies that control medical examiner/coroner records, death certificates, police records, and crime laboratory data.

b. Establish, maintain or expand routine access to uniquely identifiable case information from each of the four critical data sources for deaths occurring on or after 1/01/2005.

c. Use case definition and uniform data elements developed by CDC (See Attachment I. All attachments are posted with this announcement on the CDC website).

d. Obtain and code data from all core data sources for all cases identified. The means for obtaining data may be abstraction from the required data sources, electronic transfer or other method(s).

e. Collect and input specified child fatality review (CFR) data into the NVDRS software.

f. Develop procedures to combine information from the data sources. Maintain a unique case ID number.

g. Establish or maintain: (1) A centralized location for maintaining a secure data storage system that allows for ready access to and retrieval of your collected data; and (2) an off-site, backup storage system for all your data.

h. Transmit data free of personal identifiers electronically to CDC using software provided by CDC. Office of Management and Budget (OMB) clearance for this data collection is pending.

i. Develop a quality assurance program that includes a systematic review of the accuracy, completeness and timeliness of the data collection process. This should include reabstraction of a sample of cases where applicable, and monitoring of time intervals from death to case completion, as well as routine checks to identify duplicate cases.

j. Evaluate the surveillance system annually using standard guidelines. These include: simplicity, flexibility, data quality, acceptability, sensitivity, predictive value positive, representativeness, timeliness, and stability. [See Morbidity and Mortality Weekly Report (MMWR) Recommendations and Reports, “Updated guidelines for evaluating public health surveillance systems,” RR-13, vol. 50, 07/27/2001, found at: http://www.cdc.gov/mmwr/PDF/RR/RR5013.pdf.]

k. Prepare standard reports with aggregated data and distribute them widely.

l. Share information learned from the project through presentations, peer-reviewed publications and media events.

m. Participate in a collaborative effort coordinated by the CDC to establish a national violent death reporting system that collects uniform data across states as prescribed in the FY 2002 and FY 2003 appropriations report language. Meetings will be held on a semiannual basis.

Note: Applicants may choose to begin gathering data in smaller geographic areas, such as cities, counties or regions, rather than beginning statewide. If an applicant chooses to begin collecting data in a portion of the state, the applicant must outline a plan for expansion statewide within the five-year project period. If an applicant cannot go statewide within the five-year time frame, a justification must be provided.

In a cooperative agreement, CDC staff is substantially involved in the program activities, above and beyond routine grant monitoring.

CDC Activities for this program are as follows:

a. Provide a case definition and required uniform data elements to be collected.

b. Provide standardized model software that can be used to store and transmit data to CDC electronically, and provide software updates, as needed.

c. Train recipients on NVDRS systems. This includes: data standards, coding, data entry, data editing, quality assurance functions, record tracking, and reporting format.

d. Provide technical assistance in solving problems in all aspects of the system.

e. Review submitted records for quality and completeness and provides feedback to recipients. Work with the recipients to systematically resolve problems of missing or inaccurate data.

f. Prepare an analysis file of final edited data to be shared with the recipient for data analysis and reporting of findings.

g. Prepare standard reports with aggregated data and distribute them widely.

h. Prepare Office of Management and Budget (OMB) package to obtain clearance for data collection.

i. Provide list of child fatality review data elements that should be collected.

II. Award Information

Type of Award: Cooperative Agreement. CDC involvement in this program is listed in the Activities Section above.

Fiscal Year Funds: 2004.

Approximate Total Funding: $700,000.

Approximate Number of Awards: Three.

Approximate Average Award: $233,000.

Floor of Award Range: None.

Ceiling of Award Range: $320,000.

For applicants with violent deaths equal to 2,200 or less per year, your application will not be eligible for review if you request a funding amount greater than the upper threshold. You will be notified that you did not meet the submission requirements.

For applicants with violent deaths greater than 2,200 per year, an amount greater than the ceiling is allowable.

Anticipated Award Date: September 1, 2004.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

Eligible applicants: Applications may be submitted by:

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

A Bona Fide Agent is an agency/organization identified by the state as eligible to submit an application under the state eligibility in lieu of a state application. If you are applying as a bona fide agent of a state or local government, you must provide a letter signed by the authorizing official of the state health department designating the status bona fide agent. The letter must state that the state health department is aware of the opportunity to be involved in the cooperative agreement (include the Program Announcement number) and is allowing the bona fide agency to be the state applicant. Place this documentation behind the first page of your application form.

Other Eligibility Requirements: If your application is incomplete or non-responsive to the requirements listed below, it will not be entered into the review process. You will be notified that your application did not meet the submission requirements.

States already receiving funding under Program Announcements 02059 and 03038—Cooperative Agreement for Development of National Violent Death Reporting System (Alaska, Colorado, Georgia, North Carolina, Maryland, Massachusetts, New Jersey, Oklahoma, Oregon, Rhode Island, South Carolina, Virginia and Wisconsin) are not eligible to apply.

The ability to obtain population-based information from core data sets is crucial for the successful development of the NVDRS. Eligible applicants must document, through letters of support and memorandums of agreement/understanding (MOA/MOU), access to information on individual, identifiable decedents from all of the following data sources:

1. Death certificates.

2. Medical examiner and/or coroner records.

3. Police records.

4. Crime laboratory records.

The letters of support must come from each agency authorized to grant access to the specific required data. Each letter must note the most recent year for which data is available to the health department, and note that a MOA/MOU is in place between the applicant and the data agency. The MOA/MOU must note the applicant's access to data and specify any limitations regarding data use. A copy of the MOA/MOU must accompany each letter of support to confirm access.

Applicants from states that do not have centralized, statewide medical examiner/coroner or police records, must obtain letters of support from the agencies with authority over the four required data sources in three cities or counties within the state, and MOA/MOUs from at least three of the four agencies in each city or county.

MOA/MOUs are required to verify that an applicant has access to data and will not send the majority of project time trying to gain access to required data.

Applications that fail to submit all evidence listed above will be considered non-responsive and will be returned without review.

Cost Sharing or Matching

Matching funds are not required for this program.

Note: Title 2 of the United States Code section 1611 states that an organization described in section 501(c)(4) of the Internal Revenue Code that engages in lobbying activities is not eligible to receive Federal funds constituting an award, grant, or loan.

IV. Application and Submission Information

How to Obtain Application Forms: To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

Content and Form of Application Submission

This program announcement is the definitive guide on application format, content, and deadlines. It supersedes information provided in the application instructions. If there are discrepancies between the application form instructions and the program announcement, adhere to the guidance in the program announcement.

You are required to have a Dun and Bradstreet (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Application

You must submit a signed original, two copies, and a labeled disk or CD-Rom of your application forms.

You must include a project narrative with your application forms. Your narrative must be submitted in the following format:

• Maximum number of pages: 30.

If your narrative exceeds the page limit, only the first pages which are within the page limit will be reviewed.

• Font size: 12 point unreduced.

• Paper size: 8.5 by 11 inches.

• Page margin size: One inch.

• Printed only on one side of page.

• Held together only by rubber bands or metal clips; not bound in any other way.

• Maximum number of pages for entire application: 70 (which includes the 30 page narrative).

Note: Applicants who do not follow the content guidelines will have the following point reductions to their overall evaluation score: 5 points for more than 30 pages of the narrative; 3 points for use of a font smaller than 12-point; 2 points for less than double spacing; and 2 points for margins less than specified.

Your narrative should address activities to be conducted over the entire project period, and must include the following items in the order listed: Methods, Goals and Objectives, Experience, Capacity and Staffing, Collaboration, Evaluation and Background. The Budget Justification is not included in the narrative page count.

Funding restrictions, which must be taken into account while writing your budget, are as follows: none

If you are requesting indirect costs in your budget, you must include a copy of your indirect cost rate agreement. If your indirect cost rate is a provisional rate, the agreement must be less than 12 months of age.

Guidance for completing your budget can be found on the CDC web site, at the following Internet address: http://www.cdc.gov/od/pgo/funding/budgetguide.htm.

Additional information may be included in the application appendices. The appendices will not be counted toward the narrative page limit. This additional information may include: Curriculum Vitaes, Resumes, Organizational Charts, Letters of Support, etc.

Submission Date, Time, and Address:

Application Deadline Date: April 22, 2004.

Application Submission Address: Submit your application by mail or express delivery service to: Technical Information Management-PA# 04061, CDC Procurement and Grants Office, 2920 Brandywine Road, Atlanta, GA 30341.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content and deadlines. It supersedes information provided in the application instructions. If your application does not meet the deadline above, it will not be eligible for review, and will be discarded. You will be notified that you did not meet the submission requirements.

If you have a question about the receipt of your application, first contact your courier. If you still have a question, contact the PGO-TIM staff at: 770-488-2700. Before calling, please wait two to three days after the application deadline. This will allow time for applications to be processed and logged.

Intergovernmental Review of Applications:Executive Order 12372 does not apply to this program.

V. Application Review Information

Review Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Methods (25 points)

a. Are methods used for ascertaining cases and obtaining data from core data sources provided? It should include a discussion of methods used in motivating reporting sources, ensuring high quality data, and resolving data issues.

b. Does the applicant provide a detailed and clear description of how linkage of records from different sources is, or will be, accomplished?

c. Does the applicant describe how data will be stored in a central location in the state?

d. Is a detailed plan for protecting data from loss and assuring confidentiality where required by state law or regulation provided?

e. Does the applicant provide evidence that proposed activities are not duplications of existing activities?

f. Does the applicant provide evidence of access to child fatality review team (CFR) data?

2. Goal(s) and Objectives (15 points)

a. Are goals that are relevant and consistent with the purpose of the program announcement included?

b. Are the objectives specific, measurable, assigned to specific staff, realistic, and time-phased?

c. Does the applicant include a five-year plan with timeline? Is it realistic? Does it accomplish the goals and objectives?

3. Experience (15 points)

a. Is experience in accessing, collecting, linking, editing, managing, and analyzing surveillance information from multiple data sets documented, especially experience with mortality surveillance?

b. Does the applicant provide evidence of experience in injury surveillance, conducting data quality assurance activities, and generating data reports?

4. Capacity and Staffing (15 points)

a. Does the applicant provide evidence of existing staff with expertise in Statistical Analysis Software (SAS) software and database manager, (e.g., Microsoft Access), computer programming skills, and skills in data management and quality assurance, especially involving large complex databases?

b. Is a plan provided with position description(s) for hiring someone with such skills and expertise? Resumes or curriculum vitae should be included.

c. Is there a timetable provided showing when information regarding the occurrence of a violent death during a given calendar quarter is available to the applicant from each of the four required data sources?

5. Collaboration (15 points)

a. Does the applicant provide evidence of involvement by key stakeholders in the current system, or a plan for including key stakeholders, in the development of a violent death reporting system?

b. Does the applicant document the quality and specificity of access to required and optional data sources, e.g., the limitations of that access, the most recent year data are available, the timeliness and availability of data from all core and optional data sources, the duration of access, etc? Information from the letters of support will be considered in this context.

c. Are additional letters of support from potential partners in the project included?

d. Do the letters of support document specific contributions of the partner, including but not limited to a description of the precise nature of past and proposed collaborations, products, services, and other activities that will be provided by and to the applicant through the proposed collaboration?

6. Evaluation (10 points)

a. Is a detailed plan for evaluating the surveillance system included? The plan should include standard CDC surveillance evaluation measures described above.

b. Does the applicant describe both system and data quality assurance procedures?

7. Background (5 points)

Does the applicant describe the magnitude of the violent death problem in the state and/or target area?

8. Human Subjects (Not Scored)

Does the applicant adequately address the requirements of Title 45 CFR part 46 for the protection of human subjects? This criteria is not scored; however, an application can be disapproved if the research risks are sufficiently serious and protection against risks is so inadequate as to make the entire application unacceptable.

9. Budget (Not Scored)

Is the budget request clearly explained, adequately justified, reasonable, sufficient and consistent with the stated objectives and planned activities? It should include funds for at least two trips to CDC for program related meetings and training. Attachment II provides guidance for developing budgets.

Review and Selection Process: A Special Emphasis Panel (SEP) will evaluate your application according to the criteria listed above.

In addition, the following factors may affect the funding decision: At least two applicants will be funded whose violent deaths total 2500 or more per year statewide.

VI. Award Administration Information

Award Notices: Successful applicants will receive a Notice of Grant Award (NGA) from the CDC Procurement and Grants Office. The NGA shall be the only binding, authorizing document between the recipient and CDC. The NGA will be signed by an authorized Grants Management Officer, and mailed to the recipient fiscal officer identified in the application.

Administrative and National Policy Requirements:45 CFR part 74 or 92

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-9 Paperwork Reduction Act Requirements

• AR-10 Smoke-Free Workplace Requirements

• AR-11 Healthy People 2010

• AR-12 Lobbying Restrictions

• AR-13 Prohibition on Use of CDC Funds for Certain Gun Control Activities

• AR-21 Small, Minority, and Women-Owned Business

• AR-22 Research Integrity

Additional information on these requirements can be found on the CDC Web site at the following Internet address: http://www.cdc.gov/od/pgo/funding/ARs.htm.

Reporting Requirements

You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

VII. Agency Contacts

For general questions about this announcement, contact: Technical Information Management Section, PA# 04061, CDC Procurement and Grants Office, 2920 Brandywine Road, Atlanta, GA 30341.

Telephone: 770-488-2700.

For program technical assistance, contact: Leroy Frazier, Jr., Project Officer, Division of Violence Prevention, National Center for Injury Prevention and Control, Centers for Disease Control and Prevention, 4770 Buford Hwy, NE, MS K60, Atlanta, GA 30341.

Telephone: 770-488-1507.

E-mail: Lfrazier1@cdc.gov.

For budget assistance, contact: Nancy Ware, Contract Specialist, CDC Procurement and Grants Office, 2920 Brandywine Road, Atlanta, GA 30341.

Telephone: 770-488-2878.

E-mail: ngw5@cdc.gov.

Dated: January 16, 2004.
Sandra R. Manning,
Director, Procurement and Grants Office, Centers for Disease Control and Prevention.

[FR Doc. 04-1420 Filed 1-22-04; 8:45 am]

BILLING CODE 4163-18-P